DEPARTMENT OF THE INTERIOR

Fish and Wildlife Service

Fiscal Year 2005 Landowner Incentive Program (Non-Tribal Portion) for States, Territories, and the District of Columbia

AGENCY: Fish and Wildlife Service, Interior.

ACTION: Notice of request for proposals.

SUMMARY: The Service is requesting proposals at this time under the Landowner Incentive Program (LIP) for conservation grants to States, the District of Columbia, and the territories of Puerto Rico, Guam, the United States Virgin Islands, the Northern Mariana Islands, and American Samoa (all hereafter referred to collectively as States), and Tribes. The Service will address will address the Tribal component of LIP under a separate Federal Register notice.

DATES: The Service must receive your grant proposal no later than April 18, 2005.

ADDRESSES: All parts of the grant proposal must be received prior to the deadline. We will not accept facsimile grant proposals. States are required to submit their proposals in two formats: electronic (e.g., Word, Word Perfect or PDF files) and hard copy. Electronic files must be sent to Kim Galvan at kim_galvan@fws.gov. In addition, hard copy grant proposals must be hand-delivered, couriered, or mailed to the Service's Division of Federal Assistance at one of the addresses listed in the SUPPLEMENTARY INFORMATION section.

FOR FURTHER INFORMATION CONTACT: Kim Galvan or Genevieve Pullis LaRouche, U.S. Fish and Wildlife Service, Division of Federal Assistance, 4401 North Fairfax Drive—Mailstop MBSP 4020, Arlington, VA 22203-1610; telephone, 703-358-2420; e-mail, kim_galvan@fws.gov or Genevieve LaRouche@fws.gov. Alternatively, you may contact any of the individuals identified under the Regional Office Addresses in the SUPPLEMENTARY INFORMATION section.

SUPPLEMENTARY INFORMATION: The Service will award grants on a competitive basis to State fish and wildlife agency programs that enhance, protect, or restore habitats that benefit federally listed, proposed, or candidate species, or other at-risk species on private lands. A copy of the FY 2005 LIP Guidelines can be obtained at http://federalaid.fws.gov/lip/lipguidelines.html or from the Regional Offices listed in the SUPPLEMENTARY INFORMATION section.

The Service will distribute any LIP funds made available in the FY 2005 budget in the same manner as that described in this notice. The Service requests that the States number the pages in their proposals and limit each proposal to no more than 50 pages, inclusive of attachments.

Background Information: Earlier this year, we invited comments from the States regarding proposal ranking criteria the Service uses in evaluating Tier-2 grants for LIP. Based on these comments and our experience operating this program for 3 years, we made some changes to Grant Proposal National Review Team Subcriteria Guidance. It is our hope that these changes will provide greater clarity to the selection criteria and improve the overall fairness of the approval process. The following is a copy of the new Guidance.

Grant Proposal Review Team Ranking Criteria Guidance

Tier-2 Grant Proposals

Review and Scoring Based on Criteria

(a) Proposal provides clear and sufficient detail to describe the program. States are encouraged to describe any projects that are part of a broader scale conservation effort at the State or regional level (10 points total).

• Proposal is easy to understand and contains all elements described in 522 FW 1.3C (0-2 pts).

• The objectives are clearly stated and have quantifiable outcomes (0-2 pts).

• Proposal clearly describes the types of conservation projects and/or activities eligible for funding (0-2 pts).

• Proposal clearly describes how conservation project and/or activities will implement portions of conservation plans on a local, State, regional, or national scale (0-2 pts).

• Proposal describes how species and habitats will be monitored and evaluated to determine effectiveness of LIP-sponsored activities (0-2 pts).

(b) Proposal describes adequate management systems for fiscal, contractual, and performance accountability, including annual monitoring and evaluation of progress toward desired program objectives and performance measures and goals identified in the “expected results or benefits” section of the grant application (7 points total).

• Fiscal accountability process are clearly described (0-2 pts).

• Contractual accountability standards and processes are clearly described (0-2 pts).

• Monitoring process that will ensure accurate and timely evaluation of program performance are clearly described (0-3 pts).

(c) Proposal describes the State's fair and equitable system for fund distribution (10 points total).

• System described is inherently fair and free from bias (0-3) pts.

• Proposal describes State's ranking criteria and process of selecting projects (0-3 pts).

• States' ranking criteria are adequate to prioritize projects based on conservation priorities identified in proposal (0-2 pts).

• Project proposals will be (or were) subject to an objective ranking procedure (diverse ranking panel, computerized ranking model, etc.) (0-2 pts).

(d) Proposal describes outreach efforts to effect broad public awareness, support, and participation (2 points total). LIP outreach efforts funded with Tier-1 grants or other funding sources can be described.

(e) Proposal describes by name the species-at-risk to benefit from the proposal and how the described activities would benefit each species (10 points total).

0 points if no species are identified,

5 points if 1-5 species are identified,

6 points for 6 species,

7 points for 7 species,

8 points for 8 species,

9 points for 9 species, or

10 points for 10 or more species.

Note: Assign fewer points if a proposal merely has a long list attached versus one that talks about what will be done for each species and its habitat on private lands if the proposal is funded.)

(f) Proposal describes the percentage of the State's total LIP Tier-2 program funds identified for use on private lands as opposed to staff and related administrative support (4 points total).

0 points if this is not addressed or admin is >35%,

1 point if admin is 25 to 35%,

2 points if admin is 15 to 25%,

3 points if admin is 5 to 15%,

4 points if admin is 0 to 5%.

“Use on private lands” includes all costs directly related to implementing on-the-ground projects with LIP funds. Activities considered project use include technical guidance to landowner applicants; habitat restoration, enhancement, or management; purchase of conservation easements (including costs for appraisals, land survey, legal review, etc.); biological monitoring of Tier-2 project sites; and performance monitoring of Tier-2 projects. Staffing costs should be included in this category only when the staff-time will directly relate to implementation of a Tier-2 project. Standard Indirect rates negotiated between the State and Federal Government should also be included under Project Use.

“Staff and related administrative support” includes all costs related to administration of LIP. Activities considered administrative included outreach (presentations, development, or printing of brochures, etc.); planning; research; administrative staff support; staff supervision; and overhead charged by subgrantees (unless the rate is an approved negotiated rate for Federal grants.)

(g) Proposal identifies the percentage of nonfederal cost sharing (3 points total).

(Note: I.T. = Insular Territories)

0 points if nonfederal cost share is 25%,

1 point if nonfederal cost share is >25% to 50% (>0 to 25% I.T.),

2 points if nonfederal cost share is >50% to 75% (>25 to 50% I.T.), or

3 points if nonfederal cost share is >75% nonfed share (>50% I.T.).

(h) Proposal demonstrates the urgency of the conservation actions, and the short- and long-term benefits to be gained (10 points total).

• Proposal shows no, low, medium, or high urgency of need for identified at-risk species (0-3 pts).

• Proposal shows no or some short-term benefits to be achieved (0-1 pt).

• Proposal shows no or some long-term benefits to be achieved (0-1 pt).

• Proposal describes discrete, obtainable, and quantifiable performance measures to be accomplished (for example, the number of acres of wetlands or stream miles to be restored, or number of at-risk species whose status within the State will be improved) (0-2 pts).

• Proposal, taken as a whole, demonstrates that the State can implement a LIP that has a high likelihood for success in conserving at-risk species on private lands (0-3 pts).

(i) Has applicant received Tier-2 grant funds previously? (5 points total)

(1) 0 points, if State has received Tier 2-funds previously, or

(2) If State has not received Tier-2 funds previously:

1 point if State has not applied for Tier-2 funds previously,

3 points if State has applied one of two previous years,

5 points if State has applied both previous years.

Total Score Possible = 61 points

Total Score ___

Regional Office Addresses: Hard copy grant proposals must be hand-delivered, couriered, or mailed to the Service's Division of Federal Assistance at the following locations:

Region 1. California, Hawaii, Idaho, Nevada, Oregon, Washington, American Samoa, Guam, and Commonwealth of the Northern Mariana Islands

Regional Director, Division of Federal Assistance, U.S. Fish and Wildlife Service, 911 NE., 11th Avenue, Portland, Oregon 97232-4181. LIP Contact: Verlyn Ebert, (503) 231-6128; verlyn_ebert@fws.gov.

Region 2. Arizona, New Mexico, Oklahoma, and Texas

Regional Director, Division of Federal Assistance, U.S. Fish and Wildlife Service, 500 Gold Avenue SW, Suite 9019, PO Box 1306, Albuquerque, New Mexico 87103-1306, LIP Contact: Bob Anderson, (505) 248-7459; bob_anderson@fws.gov.

Region 3. Illinois, Indiana, Iowa, Michigan, Minnesota, Missouri, Ohio, and Wisconsin

Regional Director, Division of Federal Assistance, U.S. Fish and Wildlife Service, Bishop Henry Whipple Federal Building, One Federal Drive, Fort Snelling, Minnesota 55111-4056. LIP Contact: Lucinda Corcoran, (612) 713-5135; lucinda_corcoran@fws.gov.

Region 4. Alabama, Arkansas, Florida, Georgia, Kentucky, Louisiana, Mississippi, North Carolina, South Carolina, Tennessee, Puerto Rico, and the U.S. Virgin Islands

Regional Director, Division of Federal Assistance, U.S. Fish and Wildlife Service, 1875 Century Boulevard, Suite 200, Atlanta, Georgia 30345. LIP Contact: Christine Willis, (404) 679-4154; Christine_willis@fws.gov.

Region 5. Connecticut, Delaware, District of Columbia, Maine, Maryland, Massachusetts, New Hampshire, New Jersey, New York, Pennsylvania, Rhode Island, Vermont, Virgina, and West Virginia

Regional Director, Division of Federal Assistance, U.S. Fish and Wildlife Service, 300 Westgate Center Drive, Hadley MA 01035-9589. LIP Contact: Colleen Sculley, (413) 253-8509; colleen_sculley@fws.gov.

Region 6. Colorado, Kansas, Montana, Nebraska, North Dakota, South Dakota, Utah, and Wyoming

Regional Director, Division of Federal Assistance, U.S. Fish and Wildlife Service, P.O. Box 25486, Denver Federal Center, Denver, Colorado 80225-0486. LIP Contact: Otto Jose, (303) 236-8156 ext. 236; otto_jose@fws.gov.

Region 7. Alaska

Regional Director, Division of Federal Assistance, U.S. Fish and Wildlife Service, 1011 East Tudor Road, Anchorage, Alaska 99503-6199. LIP Contact: Nancy Tankersley, (907) 786-3545; nancy_tankersley@fws.gov.

Dated: February 4, 2005.
Kris LaMontagne,
Acting Assistant Director.

[FR Doc. 05-2929 Filed 2-15-05; 8:45 am]

BILLING CODE 4310-SS-M